DEPARTMENT OF AGRICULTURE

Forest Service

Information Collection; Generic Information Collection Clearance for Large-Scale Collaborative Landscape Restoration Projects

ACTION: Notice; request for comment.

SUMMARY: In accordance with the Paperwork Reduction Act of 1995, the Forest Service is seeking comments from all interested individuals and organizations on the proposed new information collection, Generic Information Collection Clearance for Large-Scale Collaborative Landscape Restoration Projects.

Participating Agencies

The following Federal land management agencies are included:

• Department of Agriculture: Forest Service, lead agency;

• Department of the Interior: Bureau of Land Management

DATES: Comments must be received in writing on or before October 20, 2014 to be assured of consideration. Comments received after that date will be considered to the extent practicable.

ADDRESSES: Comments concerning this notice should be addressed to Sandy Mack, Southwestern Crown Collaborative Liaison Officer, Fort Missoula 24, Missoula, MT 59804. Comments also may be submitted by email to: spmack@fs.fed.us.

Comments submitted in response to this notice may be made available to the public through relevant Web sites and upon request. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

The public may inspect the draft supporting statement and/or comments received at Fort Missoula 24, Missoula, MT, during normal business hours. Visitors are encouraged to call ahead to 406-544-4592 to facilitate entry to the building. The public may request an electronic copy of the draft supporting statement and/or any comments received be sent via return email. Requests should be emailed to spmack@fs.fed.us.

FOR FURTHER INFORMATION CONTACT: Sandy Mack, 406-544-4592. Individuals who use telecommunication devices for the deaf (TDD) may call the Federal Information Relay Service (FIRS) at 1-800-877-8339, twenty-four hours a day, every day of the year, including holidays.

SUPPLEMENTARY INFORMATION: Title: Generic Information Collection Clearance for Large-Scale Landscape Restoration Collaborative Projects.

OMB Number: 0596—NEW.

Type of Request: New.

Abstract:. In response to two recent Federal Actions, it has become necessary to request a Generic Information Collection Request (ICR) in order to collect information from stakeholders who are either involved with or live or work in and around, large-scale collaborative landscape restoration projects.

Large-scale collaborative landscape restoration projects are projects where interested parties, such as neighboring land owners, State, local, and Tribal governments, businesses, and nonprofit organizations work with a Federal government agency to find common ground pertaining to geographically extensive land management, often across multiple jurisdictions. Examples of a large-scale collaborative project include, but are not limited to, projects performed under the authority of the Forest Landscape Restoration Act of 2009 and during the development of Land Management Plans. An example of a Forest Landscape Restoration Act project is the Southwestern Crown Collaborative (SWCC), which is one of the 23 current Collaborative Forest Landscape Restoration (CFLR) projects across the nation. In the SWCC collaborators and other partners work with the Forest Service to implement restoration work and multi-party monitoring of the landscape restoration treatments across four counties and three National Forests.

The Forest Landscape Restoration Act (FLRA) of 2009 (16 U.S.C. 7303), which enabled the Collaborative Landscape Restoration program, requires the USDA Forest Service (USFS) to monitor socio-economic impacts of collaborative restoration activities within the project site. The purpose of contacting stakeholders is to get their input and feedback on the land management practices and the associated socio-economic impacts.

Development of Land Management Plans (LMP) pursuant to the National Forest Management Act of 1976 and the 2012 Planning Rule (36 CFR Part 219) requires a transparent, collaborative, and informed planning process. The Bureau of Land Management (BLM) and the USFS collaboration on large-scale projects also extends beyond CFLR and Management Plans. Gaining information from individuals who work or live in the geographic area of collaborative large-scale projects provides valuable information to partners and land management decision makers.

To ensure the Agency is informed about the opinions of participants of collaborative processes and public members living in or around large-scale collaborative projects, the Forest Service and the BLM seek to obtain OMB approval of a generic clearance to collect both qualitative and quantitative feedback from stakeholders of large-scale landscape restoration projects, monitoring activities, and land management planning.

Information will be collected from stakeholders of large-scale Federal landscape projects, such as State, local, and Tribal government representatives, community leaders, non-profit organizations, interest groups, collaborators, partners, residents, local businesses, and any other concerned parties.

The information will be collected through a variety of ways, including but not limited to:

• Census surveys of partners/participants of a collaborative project.

• Mail-in, on-line, and hard copy in person surveys.

• Stakeholder interviews.

• Stakeholder comment cards/complaint forms.

• Small discussion groups.

• Focus groups.

• Cognitive laboratory studies, such as those used to refine survey questions or assess usability of a Web site.

• Qualitative stakeholder surveys.

• Quantitative stakeholder surveys.

• In-person observation testing (for example, Web site or software usability tests).

• Targeted requests for information.

• Telephonic and in-person interviews.

• Other innovative communication strategies designed to facilitate voluntary provision of information by the public with minimal burden that may be approved by OMB.

Results from information gathered pursuant to this Generic ICR will assist program managers in evaluating the positive and negative social and economic effects of collaborative project implementation. Results will also inform the adaptive management process required by the FLRA; results of these efforts will assist USFS and BLM forest planners in meeting the collaborative and public input requirement of the 2012 Forest Planning Rule. Through the collection of this information, managers and planners will obtain valuable information to inform future decisions. Agency public affairs staff, social scientists, and economists may also use this information, and Agency, academic, and other researchers may use or cite the results or data collected in publications.

Without the collection of this information, the USFS and/or the BLM will be unable to determine whether it is meeting the requirements of the Forest Landscape Restoration Act, nor if they are fully incorporating partner and public input into forest project, implementation, monitoring and/or planning processes as required by law.

Type of Respondents: Stakeholders of large-scale landscape restoration projects, such as neighboring land owners, State, local, and Tribal government representatives, businesses, interest groups, and nonprofit organizations.

Estimated Annual Number of Respondents: 48,000.

Estimated Annual Number of Responses per Respondent: 1.

Estimated Total Annual Burden hours on Respondents: 38,000 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: August 12, 2014.
Gregory C. Smith,
Acting Associate Deputy Chief, National Forest System.

[FR Doc. 2014-19428 Filed 8-20-14; 8:45 am]

BILLING CODE 3411-15-P